DEPARTMENT OF COMMERCE

National Oceanic and Atmospheric Administration

[I.D. 070104J]

Proposed Information Collection; Comment Request; Alaska License Limitation Program for Groundfish, Crab, and Scallops

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before September 7, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Patsy A. Bearden, 907-586-7008 or patsy.bearden@noaa.gov

SUPPLEMENTARY INFORMATION:

I. Abstract

Any person who wishes to deploy a harvesting vessel in the license limitation program (LLP) king and Tanner crab fisheries in the Bering Sea/Aleutian Islands (BSAI), in the LLP groundfish fisheries in the Gulf of Alaska (GOA) or the BSAI, or in the Scallop LLP scallop fisheries off the coast of Alaska must hold a valid LLP groundfish, LLP crab license, or LLP scallop license, respectively. Further, an original license must name a vessel and be on board that vessel when it is engaged in such fishing. Applications for permits were a one-time process. An LLP application originally was used to determine owners of vessels who were qualified to obtain an LLP license, and no new LLP permits may be issued except under very specific conditions. The permits have no expiration date, but are transferable. This collection now supports LLP transfer activities for crab, scallops, and groundfish, and any appeals resulting from denied actions.

By providing stability in the industry and identifying the field of participants in the groundfish, crab, and scallops fisheries, LLP is an interim step toward a more comprehensive solution to the conservation and management problems of an open access fishery. The LLP restricts access to the commercial groundfish fisheries in the EEZ off Alaska except for certain areas where alternative programs exist. The LLP also restricts access to the commercial crab fisheries for the BSAI and access to the commercial scallop fisheries off Alaska.

II. Method of Collection

Transfer requests may be submitted by FAX or as paper submissions. Appeals may be submitted by mail as paper submissions.

III. Data

OMB Number: 0648-0334.

Form Number: None.

Type of Review: Regular submission.

Affected Public: Business or other for-profit organizations, individuals or households.

Estimated Number of Respondents: 244.

Estimated Time Per Response: License transfer application, 1 hour; appeals process, 4 hours.

Estimated Total Annual Burden Hours: 144.

Estimated Total Annual Cost to Public: $1,056.

IV. Request for Comments

Comments are invited on: (a) whether the proposed collection of information is necessary for the proper performance of the functions of the agency, including whether the information shall have practical utility; (b) the accuracy of the agency=s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 30, 2004.
Gwellnar Banks,
Management Analyst, Office of the Chief Information Officer.

[FR Doc. 04-15401 Filed 7-6-04; 8:45 am]

BILLING CODE 3510-22-S